DEPARTMENT OF ENERGY

Federal Energy Regulatory Commission

[Docket No. RM01-5-000]

Electronic Tariff Filings; Notice of Revisions to eTariff

Take notice that on November 25, 2024, the Commission deployed version 2.0 of the eTariff program. All eTariff filings must be submitted using the revised version. The revised eTariff schema and associated files are displayed at the same accession number as this Notice.¹

¹ These files also will be posted on the Commission's website at https://www.ferc.gov/ferc-online/etariff.

These revisions enhance the capabilities of the system by enabling filing pipelines and utilities to (1) identify the correct lead applicants for a proceeding; (2) have more flexibility in the programs used to create and file tariffs by filing tariff records in Microsoft Word or Excel format; and (3) differentiate between compliance filings in a current proceeding and compliance filings that establish a new docket. In addition, new codes permit utilities to distinguish baseline line rate change filings from baseline initial rate filings.

As a result of adding the capability to file in Word or Excel, certain changes will be made in the way eTariff is displayed on the eTariff Public Viewer and eLibrary. The tariff files will be converted to .pdf using print-to-pdf for display. The Public Viewer display should appear as it does today for .pdf filings. The tariff files in eLibrary will display in a FERC Generated PDF document. The metadata for each tariff record will display on one page (rather than at the top of the page) and the tariff text will follow on the next page.

These revisions are described in more detail below:

I. Lead Applicant Identification

The eTariff XML schema will add a mandatory lead applicant field. The lead applicant field will determine the lead party making the filing and will be added to the Commission's service list. This change will require the filing pipeline or utility to add the Company Identifier (CID) for the lead applicant to the XML schema. Filings without a lead applicant CID will be rejected. Filers also must continue to include the company id field to identify the company whose tariff is being revised. If pipelines and utilities are filing with themselves as the lead applicant, they will include their own CID in both the lead_applicant_id field and the company_id field if they are filing for themselves.

The Commission also will post on the eTariff website, https://www.ferc.gov/ferc-online/etariff, a CSV file with CID numbers and will endeavor to update that file monthly.

Pipelines and utilities will continue to make the eTariff filings through the eFiling web page at https://ferconline.ferc.gov/Login.aspx. The contact information associated with the CID of the lead applicant will be added to the Commission's service list. Filers need to be aware that although the filing pipeline or utility will be presented with the following screen and will have to enter an email address as signer, the company and email will not be added to the service list.

If the pipeline or utility submitting the filing wants to be considered a co-applicant, or enter additional email addresses, they must enter that information as an “Additional Applicant” in the eFiling process along with information about any other co-applicants.

II. Flexibility To Include Microsoft Word and Excel Files as Tariff Records

Filing pipelines and utilities will be able to include tariff records in Microsoft Word and Excel as well as submitting tariff records as RTF or PDF. The Commission wants to provide as much flexibility in making these filings as possible, particularly in Excel, but to assure that tariff records can be read easily, certain formatting requirements are necessary.

A. Word Files

Word files may be in portrait or landscape format with a format no larger than 11″x17″ ledger size.

B. Excel Files

The following are the formatting requirements for Excel files.

1. Filings may be in portrait or landscape.

2. Page size may be no larger than 11″x17″ ledger size.

3. Excel file must properly define the print range, including print titles and print page order, so the document can render properly in PDF. Filers need to be careful to ensure that their print range does not result in generating numerous blank pages.

4. If columns or rows roll over to subsequent pages, columns or row headers need to be repeated so that subsequent pages are easily understood.

5. An accurate marked version of the tariff record still must be filed as an attachment.

III. Revised Filing Codes

The revised compliance codes will ensure that parties differentiate between (1) compliance filings in a current proceeding for which the filer has a filing identifier, which are assigned a sub-docket (compliance_type category), and (2) compliance filings, such as compliance with complaint orders and rulemakings, where the filer has no existing filing identifier and therefore must establish a new docket (compliance_new category).

Under the eTariff XML schema, filers that are making a filing related to an existing proceeding with a Filing Identifier must include an Associated Filing Identifier at the Filing level for the filing to receive a sub-docket. In this situation, filers must submit the filing using the compliance_type category and must include an associated filing identifier at the Filing level, so they are assigned a sub-docket of the original docket. Failure to include the associated filing identifier will result in a rejection of the filing (Error code 28- An Associated Filing Identifier is required at filing level.). Type of Filing Codes designated under the compliance_new_type category apply to filings that will receive a new docket number. If the filing using these codes includes an associated filing identifier at the Filing level, the filing be rejected (Error code 187—This type of filing code establishes a new docket, so the associated filing identifier is not needed).

New codes also have been added to permit utilities establishing new Tariff baselines to distinguish between rate change filings (code 390) and initial rate filings under section 35.12 of the Commission's regulations (code 395).²

² 18 CFR 35.12 (2024).

Questions on eTariff should be directed to: etariffresponse@ferc.gov.

Dated: November 25, 2024.
Debbie-Anne A. Reese,
Secretary.

[FR Doc. 2024-28244 Filed 12-2-24; 8:45 am]

BILLING CODE 6717-01-P